DEPARTMENT OF THE INTERIOR

National Park Service

[NPS-WASO-NAGPRA-NPS0030680; PPWOCRADN0-PCU00RP14.R50000]

Notice of Inventory Completion: Michigan State University, East Lansing, MI

AGENCY: National Park Service, Interior.

ACTION: Notice.

SUMMARY: Michigan State University has completed an inventory of human remains and associated funerary objects, in consultation with the appropriate Indian Tribes or Native Hawaiian organizations and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to Michigan State University. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to Michigan State University at the address in this notice by October 13, 2020.

FOR FURTHER INFORMATION CONTACT: Judith Stoddart, 466 W Circle Drive, East Lansing, MI 48824-1044, telephone (517) 432-2524, email stoddart@msu.edu.

SUPPLEMENTARY INFORMATION: Notice is here given in accordance with the Native American Graves Protection and Repatriation Act (NAGPRA), 25 U.S.C. 3003, of the completion of an inventory of human remains and associated funerary objects under the control of Michigan State University, East Lansing, MI. The human remains and associated funerary objects were removed from Arizona.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by Michigan State University professional staff in consultation with representatives of the Hopi Tribe of Arizona and the Salt River Pima-Maricopa Indian Community of the Salt River Reservation, Arizona. The Ak-Chin Indian Community (previously listed as Ak Chin Indian Community of the Maricopa (Ak Chin) Indian Reservation, Arizona); Gila River Indian Community of the Gila River Indian Reservation, Arizona; Tohono O'odham Nation of Arizona; and the Zuni Tribe of the Zuni Reservation, New Mexico were invited but did not participate. Hereafter, the above Indian Tribes are referred to as “The Consulted and Invited Tribes.”

History and Description of the Remains

On an unknown date, probably sometime in the 1920s or 1930s, human remains representing, at minimum, one individual were removed from an unknown location in Arizona. On October 10, 1961, the Michigan State University Museum took custody of these human remains and an associated funerary object as part of the Boudeman Collection. The donor was Mrs. Donna Boudeman. Her husband, Donald Boudeman, had collected in Alaska, Siberia, and continental North America in the 1920s and 1930s. On May 28, 2019, the human remains were found in Michigan State University's Forensic Anthropology Laboratory, and in July of 2019, the association of a ceramic vessel with the human remains was confirmed. No known individual was identified. The one associated funerary object (2005.59.1) is a Gila crematory urn.

Determinations Made by Michigan State University

Officials of Michigan State University have determined that:

• Pursuant to 25 U.S.C. 3001(9), the human remains described in this notice represent the physical remains of one individual of Native American ancestry.

• Pursuant to 25 U.S.C. 3001(3)(A), the one object described in this notice is reasonably believed to have been placed with or near individual human remains at the time of death or later as part of the death rite or ceremony.

• Pursuant to 25 U.S.C. 3001(2), there is a relationship of shared group identity that can be reasonably traced between the Native American human remains and associated funerary object and the Ak-Chin Indian Community (previously listed as Ak Chin Indian Community of the Maricopa (Ak Chin) Indian Reservation, Arizona); Gila River Indian Community of the Gila River Indian Reservation, Arizona; Hopi Tribe of Arizona; Salt River Pima-Maricopa Indian Community of the Salt River Reservation, Arizona; Tohono O'odham Nation of Arizona; and the Zuni Tribe of the Zuni Reservation, New Mexico.

Additional Requestors and Disposition

Lineal descendants or representatives of any Indian Tribe or Native Hawaiian organization not identified in this notice that wish to request transfer of control of these human remains and associated funerary objects should submit a written request with information in support of the request Judith Stoddart, Associate Provost for University Collections and Arts Initiatives, Michigan State University, 466 W Circle Drive, East Lansing, MI 48824-1044, telephone (517) 432-2524, email stoddart@msu.edu, by October 13, 2020. After that date, if no additional requestors have come forward, transfer of control of the human remains and associated funerary object to The Consulted and Invited Tribes may proceed.

Michigan State University is responsible for notifying The Consulted and Invited Tribes that this notice has been published.

Dated: August 14, 2020.
Melanie O'Brien,
Manager, National Native American Graves Protection and Repatriation Act (NAGPRA) Program.

[FR Doc. 2020-20068 Filed 9-10-20; 8:45 am]

BILLING CODE 4312-52-P